DEPARTMENT OF THE INTERIOR

Bureau of Reclamation

[RR03250000; XXXR0680R1; RR.175392PJ.0NEPAAA]

Notice of Intent To Prepare an Environmental Impact Statement for the GSC Farm-Queen Creek Water Transfer Project

AGENCY: Bureau of Reclamation, Interior.

ACTION: Notice of intent; request for comments.

SUMMARY: The Bureau of Reclamation (Reclamation) intends to prepare an environmental impact statement (EIS) to analyze the environmental impacts of and potential alternatives to the proposed partial assignment and transfer of Arizona fourth priority Colorado River water entitlement from GSC Farm, LLC (GSC Farm), located in La Paz County, Arizona, to the Town of Queen Creek (Queen Creek), located in Maricopa and Pinal Counties, Arizona. The EIS also will analyze wheeling the transferred entitlement through the Central Arizona Project (CAP) and associated changes in place of use, type of use, and points of diversion (Project). The EIS is required by U.S. district court orders. Reclamation is seeking public comments to identify significant issues, effects, or other alternatives to be addressed in the EIS. Reclamation is also requesting relevant information, studies, or analyses with respect to the proposed action alternatives.

DATES: A web-based virtual public scoping meeting will be held on or after September 30, 2025 to solicit comments on the scope of the EIS and the issues and alternatives that should be analyzed. Detailed information for the virtual scoping meeting process will be announced in advance through press releases, scoping letters distributed via traditional and electronic mail, postcards, newspaper ads, and the Project website at: https://www.gscfarmqckwatertransfer.com. At the time of this publication, the dates and log-in information for the virtual scoping meeting will be available on the Project website.

Additional opportunities to review project materials and submit comments will be provided on the Project website (https://www.gscfarmqckwatertransfer.com).

Comments on the scope of the EIS are due October 15, 2025. Comments should clearly articulate the reviewer's input on the range of reasonable alternatives and the environmental issues to be analyzed. Comments received, including names and addresses of those who comment, will be part of the public record for this EIS.

ADDRESSES: Mail written comments on the EIS to the Phoenix Area Office, Bureau of Reclamation (Attn: GSC-QC Water Transfer EIS), 6150 West Thunderbird Road, Glendale, AZ 85306. Comments may also be submitted via email to dgraziani@usbr.gov, or via the Project website at: https://www.gscfarmqckwatertransfer.com/.

FOR FURTHER INFORMATION CONTACT: Mr. Dominic Graziani at (623) 773-6250, or by email at dgraziani@usbr.gov. Additional information is available online at https://www.gscfarmqckwatertransfer.com/.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: GSC Farm held an entitlement to an annual diversion of up to 2,913.3 acre-feet of Arizona fourth-priority lower Colorado River water for irrigation use within its service area in La Paz County, Arizona under its Contract for Delivery of Colorado River Water for Use in Arizona, Contract No. 13-XX-30-W0571, dated December 23, 2013, as amended, with Reclamation. As provided in Contract No. 13-XX-30-W0571, proposed assignments and transfers of GSC Farm's entitlement must be approved by Reclamation to be effective.

In December 2018, Queen Creek entered into a Purchase and Transfer Agreement for Mainstream Colorado River Water Entitlement with GSC Farm to acquire the GSC Farm Arizona fourth-priority Colorado River water entitlement held under Contract No. 13-XX-30-W0571. In August 2019, GSC Farm and Queen Creek submitted to the Arizona Department of Water Resources (ADWR) a request for consultation for the proposed assignment and transfer pursuant to A.R.S. sec. 45-107(D). ADWR recommended that Reclamation approve a transfer volume of 1,078.01 acre-feet per year (AFY), later revised to 2,033.01 AFY, with GSC Farm retaining 50 AFY for future consumptive use (69.93 AFY on a diversion basis) on the GSC Farm lands, and leaving 810.36 AFY of the historical return flow to remain stored in Lake Mead until released to fulfill the entitlements of downstream water users.

Consistent with ADWR's recommendation, GSC Farm and Queen Creek sought Reclamation's approval to partially assign and transfer 2,033.01 AFY of GSC Farm's water entitlement under Contract No. 13-XX-30-W0571 to Queen Creek, reduce GSC Farm's remaining entitlement under Contract No. 13-XX-30-W0571 to 50 AFY (69.93 AFY on a diversion basis), enter a wheeling contract allowing transportation of Queen Creek's entitlement through the CAP, and change to the points of diversion, places of use, and types of use of GSC Farm's and Queen Creek's entitlements. Reclamation's approval included the following four contract actions: (1) Partial Assignment and Transfer of Colorado River Water Under Contract with GSC Farm, LLC, to The Town of Queen Creek, Contract No. 13-XX-30-W0571, dated April 28, 2023, between GSC Farm and Queen Creek, and approved by Reclamation; (2) Contract with the Town of Queen Creek for Delivery of Colorado River Water, Contract No. 20-XX-30-W0689, dated April 28, 2023, between the United States and Queen Creek; (3) Amendment No. 2 to Contract No. 13-XX-30-W0571, dated April 28, 2023, between the United States and GSC Farm; and (4) Reclamation Wheeling Contract to Transport Non-Project Water, Central Arizona Project, between the United States and Queen Creek, Contract No. 20-XX-W0691, dated April 28, 2023.

In accordance with the National Environmental Protection Agency (NEPA) of 1969 (Pub. L. 91-190; 42 United States Code 4321 et seq.), Reclamation published a final Environmental Assessment (EA) and Finding of No Significant Impact (FONSI) in July 2022. The water transfer contracts were executed. Following a legal challenge to the EA and FONSI, the United States District Court for the District of Arizona ordered Reclamation to prepare an EIS consistent with the Court's decision. The FONSI and water transfer contracts remain in place pending the conclusion of the EIS.

Purpose and Need for the Proposed Action

Reclamation's purpose and need for action is to further evaluate the Project, in compliance with the Court Orders in Mohave County, et al. v. United States Bureau of Reclamation, et al., Case No. 3:22-CV-08246-MTL (D. Ariz.), dated February 21, 2024, and August 13, 2024 to prepare an EIS.

Preliminary Proposed Alternatives

Under the Proposed Action, Reclamation would continue the four contracts with GSC Farm and Queen Creek, listed above. These contracts approve the partial assignment and transfer of 2,033.01 AFY from GSC Farm to Queen Creek, reduce GSC Farm's remaining entitlement under Contract No. 13-XX-30-W0571 to 50 AFY (69.93 AFY on a diversion basis), allow wheeling of Queen Creek's entitlement through the CAP, and change the points of diversion, places of use, and types of use of GSC Farm's and Queen Creek's entitlements.

As required by NEPA, the EIS will consider the Proposed Action and technically and economically feasible alternatives, including a No Action Alternative. Alternatives considered and dismissed would include those that are not feasible technically or economically or those that do not meet the purpose and need of the proposal.

Summary of Expected Impacts

A broad range of issues were identified during public scoping for the EA and four issues were carried forward for analysis in the EA. The EIS will evaluate issues identified in the EA and any new issues identified during scoping for this EIS.

Resources that will be evaluated include: biology (including threatened and endangered species and special status species), socioeconomics, and prime farmlands. The effects analysis in the EIS and the range of issues addressed may be expanded or reduced based on comments received in response to this notice and at the virtual public scoping meeting.

Statutory Authority and Anticipated Permits

No additional permits or authorizations were identified for the Proposed Action.

Cooperating Agency Status

Reclamation is the lead Federal agency in the preparation of this EIS. No cooperating agencies have been identified. If, based on the Proposed Action, your agency believes it has special expertise or jurisdiction by law, as defined by NEPA, please respond within 45 days of the date of publication of this notice to the person listed in the FOR FURTHER INFORMATION CONTACT section of this notice.

Public Disclosure

Before including your address, phone number, email address, or other personal identifying information in your comment, you should be aware that your entire comment—including your personal identifying information—may be made publicly available at any time. While you can ask us in your comment to withhold personal identifying information from public review, we cannot guarantee that we will be able to do so.

Schedule for Decision Making Process

A Final EIS is expected to be published in two years or less.

How To Request Reasonable Accommodation

For special assistance during the web-based virtual scoping meeting, please contact Mr. Dominic Graziani or the TDD line (see FOR FURTHER INFORMATION CONTACT section of this notice) at least 5-working days before the meeting. Information regarding this project is available in alternate formats upon request.

Genevieve Johnson,
Acting Regional Director, Lower Colorado Basin, Bureau of Reclamation.

[FR Doc. 2025-17743 Filed 9-12-25; 8:45 am]

BILLING CODE 4332-90-P